DEPARTMENT OF COMMERCE

Foreign-Trade Zones Board

[B-43-2018]

Foreign-Trade Zone (FTZ) 21—Charleston, South Carolina; Notification of Proposed Production Activity; AGRU America Charleston, LLC (Polyethylene Fittings and Floaters); North Charleston, South Carolina

AGRU America Charleston, LLC (AGRU America) submitted a notification of proposed production activity to the FTZ Board for its facility in North Charleston, South Carolina. The notification conforming to the requirements of the regulations of the FTZ Board (15 CFR 400.22) was received on June 27, 2018.

AGRU America already has authority to produce high density polyethylene pipe within Site 38 of FTZ 21. The current request would add two finished products and two foreign status materials/components to the scope of authority. Pursuant to 15 CFR 400.14(b), additional FTZ authority would be limited to the specific foreign-status materials/components and specific finished products described in the submitted notification (as described below) and subsequently authorized by the FTZ Board.

Production under FTZ procedures could exempt AGRU America from customs duty payments on the foreign-status materials/components used in export production. On its domestic sales, for the foreign-status materials/components noted below and in the existing scope of authority, AGRU America would be able to choose the duty rates during customs entry procedures that apply to polyethylene fittings, and polyethylene floaters (duty rate 5.3%). AGRU America would be able to avoid duty on foreign-status components which become scrap/waste. Customs duties also could possibly be deferred or reduced on foreign-status production equipment.

The materials/components sourced from abroad include rigid polyethylene pipes and ethylene propylene diene monomers (EPDM) (duty rate ranges from 2.5% to 3.1%).

Public comment is invited from interested parties. Submissions shall be addressed to the Board's Executive Secretary at the address below. The closing period for their receipt is August 20, 2018.

A copy of the notification will be available for public inspection at the Office of the Executive Secretary, Foreign-Trade Zones Board, Room 21013, U.S. Department of Commerce, 1401 Constitution Avenue NW, Washington, DC 20230-0002, and in the “Reading Room” section of the Board's website, which is accessible via www.trade.gov/ftz.

For further information, contact Juanita Chen at juanita.chen@trade.gov or 202-482-1798.

Dated: July 2, 2018.
Elizabeth Whiteman,
Acting Executive Secretary.

[FR Doc. 2018-14607 Filed 7-6-18; 8:45 am]

BILLING CODE 3510-DS-P